COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add service(s) to the Procurement List that will be furnished by nonprofit agencies employing persons who are blind or have other severe disabilities.

DATES: Comments must be received on or before: July 20, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322 or email CMTEFedReg@AbilityOne.gov.

SUPPLEMENTARY INFORMATION: This notice is published pursuant to 41 U.S.C. 8503(a)(2) and 41 CFR 51-2.3. Its purpose is to provide interested persons an opportunity to submit comments on the proposed actions.

Additions

In accordance with 41 CFR 51-5.3(b), the Committee intends to add this services requirement to the Procurement List as a mandatory purchase only for contracting activities and locations listed with the proposed qualified nonprofit agency as the authorized source of supply. Prior to adding the service to the Procurement List, the Committee will consider other pertinent information, including information from Government personnel and relevant comments from interested parties regarding the Committee's intent to geographically limit this services requirement. If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Scanning Support Services

Mandatory for: U.S. Customs and Border Protection, Office of Human Resources Management, Talent Management Directorate, Processing and Servicing Center, Major General Emmett J. Bean Federal Center, Indianapolis, IN

Authorized Source of Supply: Coleman Professional Services, Kent, OH

Contracting Activity: U.S. CUSTOMS AND BORDER PROTECTION, MISSION SUPPORT CTR DIV

Service Type: Facility Support Services

Mandatory for: U.S. Census Bureau, Headquarters (USCB), Bowie Computer Center (BCC), and Franconia Warehouse, Suitland and Bowie MD, & Springfield VA

Authorized Source of Supply: ServiceSource, Inc., Oakton, VA

Contracting Activity: U.S. CENSUS BUREAU, DEPT OF COMMERCE CENSUS

Service Type: Janitorial Service

Mandatory for: The United States Geological Survey Western Fisheries Research Center (WFRC) Marrowstone Marine Field Station, Norland, WA

Authorized Source of Supply: Skookum Educational Programs, Bremerton, WA

Contracting Activity: U.S. GEOLOGICAL SURVEY, OFFICE OF ACQUISITON GRANTS

Michael R. Jurkowski,
Director, Business Operations.

[FR Doc. 2025-11214 Filed 6-17-25; 8:45 am]

BILLING CODE 6353-01-P